DEPARTMENT OF AGRICULTURE

Farm Service Agency

7 CFR Part 766

RIN 0560-AF60

Regulatory Streamlining of the Farm Service Agency's Direct Farm Loan Programs; Correction

AGENCY: Farm Service Agency, USDA.

ACTION: Final rule; correction.

SUMMARY: This document contains corrections to the final rule titled “Regulatory Streamlining of the Farm Service Agency's Direct Farm Loan Programs” that was published November 8, 2007. The Agency is correcting the order of two forms in the appendices and inserting the date of “12-31-07” on form FSA-2512 in the upper left corner.

DATES: Effective Date: December 31, 2007.

FOR FURTHER INFORMATION CONTACT: Mary Ann Ball, Regulatory Review Group, USDA FSA EPAS RRG, STOP 0572, 1400 Independence Avenue, SW., Washington, DC 20250-0517, (202) 720-42893, e-mail: Maryann.Ball@wdc.usda.gov.

SUPPLEMENTARY INFORMATION: On November 8, 2007 (72 FR 63242), the FSA published rules streamlining its direct farm loan programs. In that document there were errors this document corrects. There was a inadvertent omission of text in the definition of “beginning farmer” and Appendices A and B to Subpart C of Part 766 should be forms FSA-2512 and FSA-2510, respectively, as referred to in the regulatory text. The Appendices were inadvertently printed incorrectly with the forms in numerical order and need to be reversed. In addition, when form FSA-2512 was published it had “(Proposal)” following the form number on each page; it should have had the effective date “(12-31-07)”. The replacement form FSA-2512 has the date “12-31-07” following FSA-2512 in the upper left corner of each page.

Correction

The Agency is making the following corrections to the final rule published November 8, 2007 (72 FR 63242).

1. On page 63286 in the definition of “Beginning farmer,” in the first sentence of the paragraph (5), add the words “median farm” after the words “ * * * 30 percent of the”.

2. On pages 63335-63343 (Appendix B to Subpart C of Part 766), remove the form FSA-2512 titled “Notice of Availability of Loan Servicing to Borrowers Who Are Current, Financially Distressed, or Less than 90 Days Past Due” and add in its place the form FSA-2510, titled “Notice of Availability of Loan Servicing to Borrowers Who Are 90 Days Past Due,” from pages 63326-63334 (Appendix A to Subpart C of Part 766) and add the following new form FSA-2512 to Appendix A to Subpart C of Part 766 at page 63326.

The corrected form FSA-2512 reads as follows:

Signed in Washington, DC on December 18, 2007.
Teresa C. Lasseter,
Administrator, Farm Service Agency.

Appendix A to Subpart C of Part 766

BILLING CODE 3410-05-P

[FR Doc. 07-6201 Filed 12-28-07; 8:45 am]

BILLING CODE 3410-05-C